DEPARTMENT OF LABOR

Occupational Safety and Health Administration

Maritime Advisory Committee for Occupational Safety and Health; Notice of Meeting

AGENCY: Occupational Safety and Health Administration (OSHA), Labor.

ACTION: Maritime Advisory Committee for Occupational Safety and Health; Notice of meeting.

SUMMARY: The Maritime Advisory Committee for Occupational Safety and Health (MACOSH) was established to advise the Assistant Secretary of Labor for OSHA on issues relating to occupational safety and health in the maritime industries. The purpose of this Federal Register notice is to announce the March 2005 meeting of the committee.

DATES: The full committee will meet from 8:30 a.m. to 4:30 p.m. on March 31, 2005. The MACOSH work groups (shipyard, longshoring, container safety, traffic safety, safety culture and health) will meet from 9 a.m. until 4:30 p.m. on March 30, 2005.

ADDRESSES: MACOSH will meet at the U.S. Department of Labor, 200 Constitution Avenue, NW., Washington, DC 20210; phone: (202) 693-2086; fax: (202) 693-1663. Mail comments, views, or statements in response to this notice to Jim Maddux, Director, Office of Maritime, OSHA, U.S. Department of Labor, Room N-3609, 200 Constitution Avenue NW., Washington, DC 20210; phone (202) 693-2086; FAX: (202) 693-1663.

FOR FURTHER INFORMATION CONTACT: For general information about MACOSH and this meeting: Jim Maddux, Director, Office of Maritime, U.S. Department of Labor, Room N-3609, 200 Constitution Avenue, NW., Washington, DC 20210; phone: (202) 693-2086. For information about the submission of comments and requests to speak: Vanessa L. Welch, Office of Maritime, OSHA, U.S. Department of Labor, Room N-3609, 200 Constitution Avenue, NW., Washington, DC 20210; Phone: (202) 693-2086. Individuals with disabilities wishing to attend the meeting should contact Vanessa L. Welch at (202) 693-2086 no later than March 15, 2005 to obtain appropriate accommodations.

SUPPLEMENTARY INFORMATION: All MACOSH meetings, including work group meetings, are open to the public. All interested persons are invited to attend MACOSH at the times and place listed above. The MACOSH meeting on March 31, 2005 will include discussions of MACOSH work group reports. Specific topics will include exposure monitoring information on beryllium and silica, shipyard practices on the control of hazardous energy (lockout/tagout), and analyses of accident causation data. MACOSH has several active work groups. The container safety, longshoring, and shipyard work groups will meet on the morning of March 30. The work groups dealing with health issues, traffic safety, and safety culture will meet on the afternoon of March 30.

Public Participation: Written data, views or comments for consideration by MACOSH on the various agenda items listed above should be submitted to Vanessa L. Welch at the address listed above. Submissions received by March 15, 2005, will be provided to committee members and will be included in the record of the meeting. Requests to make oral presentations to the Committee may be granted as time permits. Anyone wishing to make an oral presentation to the Committee on any of the agenda items listed above should notify Vanessa L. Welch by March 15, 2005. The request should state the amount of time desired, the capacity in which the person will appear, and a brief outline of the content of the presentation.

Authority: Jonathan L. Snare, Acting Assistant Secretary of Labor for Occupational Safety and Health, directed the preparation of this notice under the authority granted by 6(b)(1) and 7(b) of the Occupational Safety and Health Act of 1970 (29 U.S.C. 655, 656, the Federal Advisory Committee Act (5 U.S.C. App. 2), and 29 CFR part 1912.

Signed at Washington, DC this 24th day of February, 2005.
Jonathan L. Snare,
Acting Assistant Secretary of Labor.

[FR Doc. 05-3994 Filed 3-1-05; 8:45 am]

BILLING CODE 4510-26-M